ENVIRONMENTAL PROTECTION AGENCY

40 CFR Part 51

[AD-FRL-7070-8]

Proposed Guidelines for Best Available Retrofit Technology (BART) Determinations Under the Regional Haze Regulations

AGENCY: Environmental Protection Agency (EPA).

ACTION: Proposed rule; extension of public comment period.

SUMMARY: The EPA is announcing the extension of the public comment period on the proposed guidelines for implementation of the best available retrofit technology (BART) requirements under the regional haze rule. The EPA originally requested comments on the proposed rule by September 18, 2001 (66 FR 38108, July 20, 2001). We are extending this deadline to October 5, 2001. We are requesting written comments by October 5, 2001.

ADDRESSES: Docket. Information related to the BART guidelines is available for inspection at the Air and Radiation Docket and Information Center, Docket No. A-2000-28. The docket is located at the U.S. Environmental Protection Agency, 401 M Street, SW, Room M-1500, Washington, DC 20460, telephone (202) 260-7548. The docket is available for public inspection and copying between 8:00 a.m. and 5:30 p.m., Monday through Friday, excluding legal holidays. A reasonable fee may be charged for copying.

You should submit comments on the proposed BART guidelines and the materials referenced therein (in duplicate, if possible) to the Air and Radiation Docket and Information Center (6102), Attention: Docket No. A-2000-28, U.S. Environmental Protection Agency, 1200 Pennsylvania Avenue, NW, Washington, DC 20460. You may also submit comments to EPA by electronic mail at the following address: A-and-R-Docket@epamail.epa.gov. Electronic comments must be submitted as an ASCII file avoiding the use of special characters and any form of encryption. All comments and data in electronic form must be identified by the docket number A-2000-28. Electronic comments on this proposed rule also may be filed online at many Federal Depository Libraries.

FOR FURTHER INFORMATION CONTACT: Tim Smith (telephone 919-541-4718), EPA, Air Quality Strategies and Standards Division, MD-15, Research Triangle Park, North Carolina, 27711. Internet address: smith.tim@epa.gov.

List of Subjects in 40 CFR Part 51

Environmental protection, Administrative practice and procedure, Air pollution control, Carbon monoxide, Nitrogen dioxide, Particulate matter, Sulfur oxides, Volatile organic compounds.

Dated: September 25, 2001.
Jeffrey R. Holmstead,
Assistant Administrator for Air and Radiation.

[FR Doc. 01-24589 Filed 10-1-01; 8:45 am]

BILLING CODE 6560-50-P